DEPARTMENT OF DEFENSE

Office of the Secretary

Federal Advisory Committee; Defense Advisory Committee on Military Personnel Testing; Charter Renewal

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the Defense Advisory Committee on Military Personnel Testing (hereafter referred to as the Committee).

FOR FURTHER INFORMATION CONTACT: Jim Freeman, Deputy Advisory Committee Management Officer for the Department of Defense, 703-601-6128.

SUPPLEMENTARY INFORMATION: The Committee is a discretionary Federal advisory committee that shall provide independent advice and recommendations to the Secretary of Defense, through the Under Secretary of Defense for Personnel and Readiness on matters pertaining to military personnel testing. The Committee shall review the calibration of personnel selection and classification tests to ensure the accuracy of resulting scores, review relevant validation studies to ensure that the tests have utility in predicting success in technical training and on the job, review ongoing testing research and development in support of the enlistment program, and make recommendations for improvements to make the testing process more responsible to the needs of the Department of Defense and the Military Services.

The Under Secretary of Defense for Personnel and Readiness may act upon the Committee's advice and recommendations.

The Committee shall be comprised of not more than seven members, who are eminent authorities in the fields of educational and psychological testing. Committee members shall be appointed by the Secretary of Defense, Committee members shall serve terms of three years on the Committee, with annual appointment renewals by the Secretary of Defense.

Committee members appointed by the Secretary of Defense, who are not full-time or permanent part-time Federal officers or employees, shall be appointed under the authority of 5 U.S.C. 3109, and serve as special government employees. In addition, all Committee members, with the exception of travel and per diem for official travel, shall serve without compensation.

The Under Secretary of Defense for Personnel and Readiness shall select the Committee's chairperson from the total membership.

With DoD approval, the Committee is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or working groups shall not work independently of the chartered Committee, and shall report all their recommendations and advice to the Committee for full deliberation and discussion. Subcommittees or working groups have no authority to make decisions on behalf of the chartered Committee; nor can they report directly to the Department of Defense or any Federal officers or employees who are not Committee members.

Subcommittee members, who are not Committee members, shall be appointed in the same manner as the Committee members.

The Committee shall meet at the call of the Committee's Designated Federal Officer, in consultation with the Under Secretary of Defense for Personnel and Readiness and the Chairperson. The estimated number of Committee meetings is two per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the Advisory Committee on Military Personnel Testing's membership about the Committee's mission and functions. Written statements may be submitted at any time or in response to the stated agenda of planned meeting of Advisory Committee on Military Personnel Testing.

All written statements shall be submitted to the Designated Federal Officer for the Advisory Committee on Military Personnel Testing, and this individual will ensure that the written statements are provided to the membership for their consideration. Contact information for the Advisory Committee on Military Personnel Testing Designated Federal Officer can be obtained from the GSA's FACA Database— https://www.fido.gov/facadatabase/public.asp.

The Designated Federal Officer, pursuant to 41 CFR 102-3.150, will announce planned meetings of the Advisory Committee on Military Personnel Testing. The Designated Federal Officer, at that time, may provide additional guidance on the submission of written statements that are in response to the stated agenda for the planned meeting in question.

Dated: April 27, 2010.
Mitchell S. Bryman,
Alternate OSD Federal Register Liaison Officer, Department of Defense.

[FR Doc. 2010-10121 Filed 4-29-10; 8:45 am]

BILLING CODE 5001-06-P